FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 011223-057.

Title: Transpacific Stabilization Agreement.

Parties: American President Lines, Ltd. and APL Co. Pte. Ltd. (operating as a single carrier); COSCO Container Lines Company Ltd.; Evergreen Line Joint Service Agreement, FMC Agreement No. 011982; Hapag-Lloyd A.G.; Hyundai Merchant Marine Co., Ltd.; Orient Overseas Container line Limited; Yang Ming Marine Transport Corp.; CMA CGM S.A.; and MSC Mediterranean Shipping Company S.A.

Filing Party: David Smith; Cozen O'Connor; 1200 Nineteenth Street NW, Washington, DC 20036.

Synopsis: The amendment revises Appendix A of the Agreement to remove Maersk Line A/S as a party to the Agreement.

Agreement No.: 011550-016.

Title: ABC Discussion Agreement.

Parties: Crowley Caribbean Services LLC; King Ocean Services Limited, Inc.; and Seaboard Marine Ltd.

Filing Party: Wayne Rohde; Cozen O'Connor; 1200 Nineteenth Street NW, Washington, DC 20036.

Synopsis: The amendment deletes Hamburg-Sud as a party to the Agreement.

By Order of the Federal Maritime Commission.
Dated: January 12, 2018.
Rachel E. Dickon,
Assistant Secretary.

[FR Doc. 2018-00799 Filed 1-17-18; 8:45 am]

BILLING CODE 6731-AA-P